DEPARTMENT OF TRANSPORTATION

Federal Railroad Administration

Petition for Waiver of Compliance

In accordance with Part 211 of Title 49 Code of Federal Regulations (CFR), notice is hereby given that the Federal Railroad Administration (FRA) has received a request for a waiver of compliance from certain requirements of its safety standards. The individual petition is described below, including the party seeking relief, the regulatory provisions involved, the nature of the relief being requested, and the petitioner's arguments in favor of relief from the requirements of Title 49 CFR Part 236, as detailed below.

Union Pacific Railroad Company

[Docket Number FRA-2009-0117]

The Union Pacific Railroad (UP) seeks relief from the requirements of the Rules, Standards, and Instructions, Title 49 CFR Part 236. Specifically, UP seeks relief from the requirements of Subpart A, Rules and Instructions: All Systems, Section 236.109 Time releases, timing relays and timing devices; regarding performance of timing duration test on timers with variable settings at an interval of not less than once every 12 months. UP seeks to extend periodic testing requirements of non-adjustable timers from at least once every 12 months to every 4 years after initial testing has been completed at all interlockings, control points, and other signal locations controlled by microprocessor-based equipment. This request for relief proposes to use alternative locking test procedures at signal locations with microprocessor-based equipment after an initial base line time duration test is performed. The following proposed alternative timer tests will be performed every 4 years after initial testing or program change:

• Verification of the Cyclic Redundancy Check/Check Sum/Universal Control Number of the existing location specific application logic to the previously tested version (baseline testing).

• Testing the duration of any timers with variable settings.

Alternative test descriptions and procedures for timers with variable settings in microprocessor-based equipment would be documented in Carriers Signal Maintenance Standards.

Applicant's justification for relief: The requirement for not less than once every 12 months testing interval at microprocessor controlled signal locations places an unnecessary burden on the carrier and provides no real safety benefit as the application program logic (and timer values) once installed does not change.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2009-0117) and may be submitted by any of the following methods:

• Web site: http://www.regulations.gov. Follow the online instructions for submitting comments.

• Fax: 202-493-2251.

• Mail: Docket Operations Facility, U.S. Department of Transportation, 1200 New Jersey Avenue, SE., W12-140, Washington, DC 20590.

• Hand Delivery: 1200 New Jersey Avenue, SE., Room W12-140, Washington, DC 20590, between 9 a.m. and 5 p.m., Monday through Friday, except Federal holidays.

Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://www.regulations.gov.

Anyone is able to search the electronic form of any written communications and comments received into any of our dockets by the name of the individual submitting the document (or signing the document, if submitted on behalf of an association, business, labor union, etc.). You may review DOT's complete Privacy Act Statement in the Federal Register published on April 11, 2000 (65 FR 19477) or at http://www.dot.gov/privacy.html.

Issued in Washington, DC, on December 16, 2009.
Grady C. Cothen, Jr.
Deputy Associate Administrator for Safety Standards and Program Development.

[FR Doc. E9-30277 Filed 12-23-09; 8:45 am]

BILLING CODE P